DEPARTMENT OF ENERGY

Federal Energy Regulatory Commission

[Docket No. AD18-13-000]

Notice of Availability of the Final Engineering Guidelines for the Evaluation of Hydropower Projects: Chapter 12—Water Conveyance

The staff of the Federal Energy Regulatory Commission's (FERC or Commission) Office of Energy Projects has finalized its new Engineering Guidelines for the Evaluation of Hydropower Projects: Chapter 12—Water Conveyance (Guidelines), which was issued in draft form on May 17, 2018, for comment. The Guidelines revision reflects the most current thinking and practices of the Division of Dam Safety and Inspections.

The Guidelines can be found in Docket Number AD18-13-000. The full text of the Guidelines can be viewed on the Commission's website at https://www.ferc.gov/industries/hydropower/safety/guidelines/eng-guide/chap12.pdf.

The Guidelines are intended to provide guidance to the industry. This document does not substitute for, amend, or supersede the Commission's regulations under the 18 CFR part 12—Safety of Water Power Projects and Project Works. imposes no new legal obligations and grants no additional rights.

In response to the draft Guidelines, Commission staff received comments from federal and state agencies, licensees whose portfolio includes arch dams, independent consultants and inspectors, and other interested parties. Staff reviewed and considered each comment and modified several portions of the document in response. Staff declined to modify the document where comments either were already adequately/accurately addressed as written, or regarded topics that were not relevant to the Guidelines.

All of the information related to the Guidelines and submitted comments can be found on the FERC website (www.ferc.gov) using the eLibrary link. Click on the eLibrary link, click on “Docket Search” and in the Docket Number field enter the docket number “AD18-13,” excluding the last three digits. For assistance, please contact FERC Online Support at FercOnlineSupport@ferc.gov or toll free at (866) 208-3676, or for TTY, contact (202) 502-8659. The eLibrary link also provides access to formal documents issued by the Commission, such as orders, notices, and rulemakings.

Dated: August 7, 2018.
Kimberly D. Bose,
Secretary.

[FR Doc. 2018-17288 Filed 8-10-18; 8:45 am]

BILLING CODE 6717-01-P